FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010099-040.

Title: International Council of Containership Operators.

Parties: A.P. Moller-Maersk Sealand; ANL Limited; American President Lines, Ltd.; APL Co. PTE Ltd.; Atlantic Container Line AB; Australia-New Zealand Direct Line; Canada Maritime Limited; Cast Line Limited; CMA CGM, S.A.; Companhia Libra de Navegacao; Compania Sud-Americana de Vapores S.A.; Contship Containerlines; Cosco Container Lines Company Limited; CP Ships; Crowley Maritime Corporation; Evergreen Marine Corporation, Ltd.; Hamburg-Sud; Hanjin Shipping Co., Ltd.; Hyundai Merchant Marine Co., Ltd.; Italia di Navigazione, S.p.A.; Kawasaki Kisen Kaisha, Ltd.; Lykes Lines Limited, LLC; Malaysian International Shipping Company S.A.; Mediterranean Shipping Company S.A.; Mitsui O.S.K. Lines, Ltd.; Montemar Maritima S.A.; Neptune Orient Lines, Ltd.; Nippon Yusen Kaisha; Norasia Container Lines Limited; Orient Overseas Container Line, Limited; Pacific International Lines (PTE) Ltd.; P&O Nedlloyd B.V.; P&O Nedlloyd Limited; Senator Lines GmbH; TMM Lines Limited, LLC; United Arab Shipping Company; Wan Hai Lines Ltd.; Zim Israel Navigation Co., Ltd.

Synopsis: The amendment adds Delmas SAS as a party to the agreement.

Agreement No.: 011515-009.

Title: Steamship Line Cooperative Chassis Pool Agreement

Parties: Atlantic Container Line AB; Columbus Line; Mediterranean Shipping Company, S.A.; United Arab Shipping Company; Safbank Line, Ltd.; The National Shipping Company of Saudi Arabia; Hapag-Lloyd Container Linie GmbH; Cho Yang Shipping Co., Ltd.; Senator Lines GmbH; Empresa de Navegacao Alianca, S.A.; Hyundai Merchant Marine Co., Ltd.; COSCO Container Lines Company, Ltd.; Yangming Marine Transport Corporation; Kawasaki Kisen Kaisha, Ltd.; Farrell Lines Incorporated; Lykes Lines Limited, LLC; Evergreen Marine Corporation (Taiwan) Ltd.; CMA CGM S.A.; Italia di Navigazione, S.p.A.

Synopsis: The amendment deletes Columbus Line, United Arab Shipping, The National Shipping Company of Saudi Arabia, Hapag-Lloyd, Cho Yang, Senator, Alianca, Hyundai, Farrell, Lykes, Evergreen, and Italia from the list of members. It adds American President Lines, Ltd.; China Shipping Container Lines Co., Ltd.; Compania Sud Americana de Vapores, S.A.; Hanjin Shipping Co., Ltd.; and Zim-Israel Navigation Co., Ltd. In addition, it adds Safmarine Container Lines, NV in place of Safbank, and corrects Atlantic Container Line's address and COSCO's name.

Agreement No.: 011527-008.

Title: Independent Carrier Service Agreement.

Parties: Hanjin Shipping Co., Ltd.; Kawasaki Kisen Kaisha, Ltd.; Mitsui O.S.K. Lines, Ltd.; and Zim Israel Navigation Company Ltd.

Synopsis: The amendment would remove CMA CGM, S.A. and Montemar Maritima S.A. as parties to the agreement; add Mitsui O.S.K. Lines and K-Line as parties; and adjust the parties' space allocations and vessel contributions under the agreement. The parties request expedited review.

Agreement No.: 011547-016.

Title: Eastern Mediterranean Discussion Agreement.

Parties: A.P. Moller-Maersk A/S; COSCO Container Lines Company, Ltd.; Farrell Lines, Inc.; Hapag-Lloyd Container Linie GmbH; Mediterranean Shipping Company S.A.; P&O Nedlloyd Limited; Turkon Container Transportation and Shipping, Inc.; and Zim Israel Navigation Co., Ltd.

Synopsis: The amendment adds China Shipping Container Lines as a party to the agreement and updates Maersk's corporate name.

Agreement No.: 011801-001

Title: Maersk Sealand/P&O Nedlloyd U.S. East Coast/Indian Subcontinent Slot Charter Agreement

Parties: A.P. Moller-Maersk A/S and P&O Nedlloyd Limited/P&O Nedlloyd B.V.

Synopsis: The proposed amendment would revise the geographic scope to add Dammam, Saudi Arabia, and Bahrain and delete Colombo, Sri Lanka; add the provision that Maersk Sealand may transport P&O Nedlloyd's cargo on feeder vessels to Bahrain, Jebel Ali, and Dammam via Salalah, Oman; and add a provision on Customs and Compliance.

Agreement No.: 011852-004

Title: Maritime Security Discussion Agreement

Parties: American President Lines, Ltd.; APL Co. Pte Ltd.; China Shipping Container Lines, Co., Ltd.; CMA-CGM S.A.; COSCO Container Lines Company, Ltd.; Evergreen Marine Corp.; Hanjin Shipping Company, Ltd.; Hapag Lloyd Container Linie GmbH; Kawasaki Kisen Kaisha Ltd.; A.P. Moller-Maersk A/S, trading under the name of Maersk Sealand; Mitsui O.S.K. Lines, Ltd.; Nippon Yusen Kaisha; Yang Ming Marine Transport Corp.; Safmarine Container Line, NV; Zim Israel Navigation Co., Ltd.; Alabama State Port Authority; APM Terminals North America, Inc.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority (MASSPORT); Metropolitan Stevedore Co.; P&O Ports North American, Inc.; Port of Tacoma; South Carolina State Ports Authority; Stevedoring Services of America, Inc.; Trans Bay Container Terminal, Inc. TraPac Terminals; Universal Maritime Service Corp.; and Virginia International Terminals

Synopsis: The amendment adds Safmarine Container Line NV; China Shipping Container Lines, Co., Ltd.; Alabama State Port Authority; and Lambert's Point Docks Inc. as parties to the agreement.

Dated: March 26, 2004.
By Order of the Federal Maritime Commission.
Bryant L. VanBrakle,
Secretary.

[FR Doc. 04-7253 Filed 3-30-04; 8:45 am]

BILLING CODE 6730-01-P